DEPARTMENT OF LABOR

Office of Federal Contract Compliance Programs

41 CFR Parts 60-1, 60-2, 60-3, 60-4, 60-20, 60-30, 60-40, 60-50 and 60-999

[Docket No. OFCCP-2025-0001]

RIN 1250-AA17

Rescission of Executive Order 11246 Implementing Regulations; Extension of Comment Period

AGENCY: Office of Federal Contract Compliance Programs, Labor.

ACTION: Proposed rule; extension of comment period.

SUMMARY: On July 1, 2025, the U.S. Department of Labor (DOL) published a Notice of Proposed Rulemaking (NPRM) to rescind the regulations for Executive Order (E.O.) 11246, as amended. The comment period for the NPRM was scheduled to close on September 2, 2025. With this notice document, DOL is extending the comment period to September 17, 2025 Commenters who have already submitted public comments do not need to resubmit their comments. DOL will consider all comments received from the date of publication of the NPRM through the close of the extended comment period. Any previous denial of a request to extend the comment period remains denied to the extent the request asked for more than a 15-day extension. Commentors are encouraged to submit all comments by September 17, 2025, as no further extension will be granted.

DATES: The comment period for the NPRM that was published on July 1, 2025, at 90 FR 28472, is extended. Comments should be received on or before September 17, 2025.

ADDRESSES: Comments must be submitted in one of the following two ways (please choose only one of the ways listed):

• Electronically at https://www.regulations.gov. Follow the “Submit a comment” instructions. If you are reading this document on federalregister.gov, you may use the green “SUBMIT A PUBLIC COMMENT” button beneath this rulemaking's title to submit a comment to the regulations.gov docket.

• Via mail to the following address: Catherine L. Eschbach, Director, Office of Federal Contract Compliance Programs, 200 Constitution Avenue NW, Washington, DC 20210. Mailed comments must be received by the close of the comment period.

Do not include any personally identifiable information (such as name, address, or other contact information) or confidential business information that you do not want publicly disclosed. All comments are public records; they are publicly displayed exactly as received, and will not be deleted, modified, or redacted. Comments may be submitted anonymously.

Follow the search instructions on https://www.regulations.gov to view public comments.

FOR FURTHER INFORMATION CONTACT: Catherine L. Eschbach, Director, Office of Federal Contract Compliance Programs, 200 Constitution Avenue NW, Washington, DC 20210. Telephone: 202-693-0101. Email: ofccp_guidance@dol.gov.

SUPPLEMENTARY INFORMATION: On July 1, 2025, DOL issued an NPRM to rescind the regulations for Executive Order 11246, as amended. The public comment period for the NPRM was scheduled to close on September 2, 2025. In response to public comments, DOL is extending the public comment period to September 17, 2025. DOL believes this 15-day extension is sufficient and balances the agency's need for stakeholder input with the Department's desire to proceed with the rulemaking in a timely manner. Any prior denial of an extension request remains in effect to the extent the request asked for more than a 15-day extension. No further extensions will be granted.

(Authority: E.O. 14173)

Catherine Eschbach,
Director, Office of Federal Contract Compliance Programs.

[FR Doc. 2025-16919 Filed 9-2-25; 11:15 am]

BILLING CODE 4510-CM-P